DEPARTMENT OF THE INTERIOR

Bureau of Indian Affairs

Final Determination for the Burt Lake Band of Ottawa and Chippewa Indians, Inc.

AGENCY: Bureau of Indian Affairs, Interior.

ACTION: Notice of final determination.

SUMMARY: Pursuant to 25 CFR 83.10(h), notice is hereby given that the Associate Deputy Secretary (ADS) has determined that the Burt Lake Band of Ottawa and Chippewa Indians, Inc., c/o Mr. Curtis Chambers, does not satisfy all seven criteria for acknowledgment as an Indian tribe in 25 CFR 83.7.

DATES: This determination is final and will become effective 90 days from publication of the Final Determination, pursuant to 25 CFR 83.10(l)(4), unless a request for reconsideration is filed pursuant to 25 CFR 83.11.

ADDRESSES: Requests for a copy of the summary evaluation of the evidence should be addressed to the Office of the Assistant Secretary—Indian Affairs, Attention: Office of Federal Acknowledgment, 1951 Constitution Avenue, NW., MS: 34B-SIB, Washington, DC 20240.

FOR FURTHER INFORMATION CONTACT: R. Lee Fleming, Director, Office of Federal Acknowledgment, (202) 513-7650.

SUPPLEMENTARY INFORMATION: This notice is published in the exercise of authority delegated by the Secretary of the Interior to the ADS by Secretarial Order 3259, of February 8, 2005, as amended on August 11, 2005, and on March 31, 2006.

This notice is based on a determination that the Burt Lake Band of Ottawa and Chippewa Indians, Inc. (BLB) does not satisfy all of the seven mandatory criteria for acknowledgment in 25 CFR 83.7, as modified by section 83.8. The acknowledgment process is based on the regulations at 25 CFR part 83. Under these regulations, the petitioner has the burden to present evidence that it meets the seven mandatory criteria in section 83.7.

A notice of the Proposed Finding to decline to acknowledge the BLB was published in the Federal Register on April 15, 2004. The regulations provide a 180-day period for comment on the Proposed Finding and at the petitioner's request this comment period was extended three times to close on May 2, 2005. This determination is made following a review of the BLB's response to the Proposed Finding. No third parties submitted comments on the Proposed Finding.

This Final Determination concludes that the petitioner is eligible to be evaluated under section 83.8 with a last date of acknowledgment as of 1917.

Under 83.8(d)(5), the petitioner was evaluated under criterion 83.7(a), which requires that the petitioner be identified as an American Indian entity on a substantially continuous basis, from the point of last Federal acknowledgment. The available evidence demonstrates that external observers have identified the petitioning group as an American Indian entity on a substantially continuous basis since 1917, the date of last Federal acknowledgment.

Criterion 83.7(b), as modified by section 83.8(d)(2), requires that a predominant portion of the petitioning group comprise a distinct community and exist as a community at present. The BLB submitted evidence from ghost supper sign-in sheets, photographs, funeral records, and interviews submitted by the petitioner to supplement materials already in the record. The evidence demonstrates that the BLB as defined by its membership list is not a community. More than half of the petitioner's members only rarely if ever participate in activities with other BLB members. The evidence demonstrates further that the BLB petitioner's core social community is part of a greater Burt Lake community composed predominantly of members of a federally recognized tribe, the Little Traverse Bay Bands of Odawa Indians (LTBB), and members of the BLB petitioner. Neither the petitioner's core social community nor the petitioner itself is distinct from this greater Burt Lake community. Further, the peripheral members of BLB are more likely to interact socially with older parents or grandparents and other relatives enrolled in LTBB than with non-relatives in BLB. The BLB petitioner does not meet criterion 83.7(b) because it is not a distinct social community at present, as the regulations require.

Criterion 83.7(c), as modified by section 83.8(d)(3), requires that the petitioner has maintained political influence or authority over its members as an autonomous entity from 1917 until the present. The BLB petitioner does not meet criterion 83.7(c), as modified by section 83.8(d)(3), because it has not provided sufficient evidence of identifications of leaders or of a governing body of the petitioning group by authoritative, knowledgeable external sources on a substantially continuous basis since 1917. The BLB petitioner does not meet criterion 83.7(c), under the provisions of section 83.8(d)(5), because it has not provided a combination of evidence sufficient to demonstrate that the petitioning group has maintained political influence or authority over its members from 1917 to the present. From 1917 into the 1970's, the available evidence, with one exception, demonstrates political activity by Burt Lake band descendants within entities much larger than the petitioner. This historical pattern persists at present.

The politically active members of the BLB are part of the greater Burt Lake community, composed predominantly of Indian individuals who are not members of BLB. Past members of BLB, who are now enrolled in a federally recognized tribe, influence the petitioner's members on significant issues. Authority flows from influential family members to their kin. Families, however, have members both in BLB and in federally recognized tribes, primarily LTBB, or not enrolled in any Indian tribe or petitioner. Younger, peripheral members of BLB consult with older relatives who belong to LTBB concerning BLB issues, and these older relatives, former BLB members, deal with leaders of the greater Burt Lake community who belong to both organizations. The evidence demonstrates the existence of influence within a group of Burt Lake band descendants larger than the current membership of the petitioner, rather than a bilateral relationship between leaders and members within the petitioning group.

Criterion 83.7(d) requires that the petitioner provide a copy of the group's present governing document including its membership criteria. The BLB petitioner submitted a constitution, voted on by the members via absentee ballots in February 2005, and certified as the group's official governing document by a resolution dated April 9, 2005. The BLB petitioner submitted a copy of its current governing document, which includes its membership criteria and the processes by which it governs itself. Therefore, the BLB petitioner meets criterion 83.7(d).

Criterion 83.7(e) requires that the petitioner's membership consist of individuals who descend from a historical Indian tribe or from historical Indian tribes which combined and functioned as a single autonomous political entity. The BLB submitted a membership list dated April 2005, identifying 320 members, and including all categories of information required by section 83.7(e)(2). This represents a removal of 624 of the 857 members who appeared on the group's December 2002 membership list, and an addition of 87 new members.

The FD found that 68 percent, or 218 of the 320 BLB members, could satisfactorily document descent from the historical band. The 102 members who could not document descent from the historical tribe included 53 descendants of two non-Cheboygan women, Elizabeth Martell and Charlotte Boda, who arrived in the Burt Lake area after the October 1900 burnout of the Indian village. These women had siblings who married into the group, but neither the women nor their descendants did so. The other 49 members could not document descent from the historical tribe due to missing or insufficient evidence of descent. Based on precedent, because only 68 percent of its members descend from the historical Cheboygan band, the BLB petitioner does not meet the requirements of criterion 83.7(e).

Criterion 83.7(f) requires that the membership of the petitioning group be composed principally of persons who are not members of any acknowledged North American Indian tribe. A review of the available documentation revealed that the membership is composed principally of persons who are not members of any acknowledged North American Indian tribe. The BLB petitioner meets criterion 83.7(f).

Criterion 83.7(g) requires that neither the petitioner nor its members be the subject of congressional legislation that has expressly terminated or forbidden the Federal relationship. A review of the available documentation showed no evidence that the petitioning group was the subject of congressional legislation to terminate or prohibit a Federal relationship as an Indian tribe. The BLB petitioner meets the requirements of criterion 83.7(g).

As provided by 25 CFR 83.10(h), a report summarizing the evidence, reasoning, and analyses that are the basis for the final determination will be provided to the petitioner and interested parties, and is available to other parties upon written request.

After the publication of notice of the final determination, the petitioner or any interested party may file a request for reconsideration with the Interior Board of Indian Appeals (IBIA) under the procedures set forth in section 83.11 of the regulations. This request must be received by the IBIA no later than 90 days after the publication of the final determination in the Federal Register. The final determination will become effective as provided in the regulations 90 days from the Federal Register publication unless a request for reconsideration is filed within that time period.

Dated: September 21, 2006.
James E. Cason,
Associate Deputy Secretary.

[FR Doc. E6-16191 Filed 9-29-06; 8:45 am]

BILLING CODE 4310-G1-P